DEPARTMENT OF ENERGY

[FE Docket No. 14-179-LNG]

Pieridae Energy (USA), Ltd.

AGENCY: Office of Fossil Energy, DOE.

ACTION: Notice of change in control.

SUMMARY: The Office of Fossil Energy (FE) of the Department of Energy (DOE) gives notice of receipt of two related Notices of Change in Control (Notice or, collectively, Notices) filed by Pieridae Energy (USA), Ltd. (Pieridae US) in the above-referenced docket. The first Notice, filed on May 21, 2017, described a planned change in control of Pieridae Energy Limited, the parent company of Pieridae US. In the second Notice, filed on November 1, 2017, Pieridae US confirmed that the planned change in control had occurred. The Notices were filed under the Natural Gas Act (NGA).

DATES: Protests, motions to intervene or notices of intervention, as applicable, and written comments are to be filed using procedures detailed in the Public Comment Procedures section no later than 4:30 p.m., Eastern time, March 16, 2018.

ADDRESSES:

Electronic Filing by email: fergas@hq.doe.gov.

Regular Mail: U.S. Department of Energy (FE-34), Office of Regulation and International Engagement, Office of Fossil Energy, P.O. Box 44375, Washington, DC 20026-4375.

Hand Delivery or Private Delivery Services (e.g., FedEx, UPS, etc.): U.S. Department of Energy (FE-34), Office of Regulation and International Engagement, Office of Fossil Energy, Forrestal Building, Room 3E-042, 1000 Independence Avenue SW, Washington, DC 20585.

FOR FURTHER INFORMATION CONTACT:

Larine Moore or Amy Sweeney, U.S. Department of Energy (FE-34), Office of Regulation and International Engagement, Office of Fossil Energy, Forrestal Building, Room 3E-042, 1000 Independence Avenue SW, Washington, DC 20585, (202) 586-9478; (202) 586-2627.

Cassandra Bernstein, U.S. Department of Energy (GC-76), Office of the Assistant General Counsel for Electricity and Fossil Energy, Forrestal Building, 1000 Independence Avenue SW, Washington, DC 20585, (202) 586-9793.

SUPPLEMENTARY INFORMATION:

Summary of Change in Control

As noted, Pieridae US filed two related Notices of Change in Control in the above-referenced docket under section 3 of the NGA, 15 U.S.C. 717b. In the first Notice filed on May 21, 2017,¹ Pieridae US asserted that: (i) It is wholly-owned at all times by Pieridae Energy Limited; (ii) on May 15, 2017, Pieridae Energy Limited and Pétrolia Inc. (Pétrolia), a Canadian public corporation, entered into an agreement which contemplated that, on or before August 15, 2017, Pétrolia would acquire all of the issued and outstanding shares of Pieridae Energy Limited in exchange for shares of Pétrolia pursuant to a plan of arrangement effected under section 192 of the Canada Business Corporation Act; and (iii) immediately thereafter, Pétrolia and Pieridae Energy Limited would amalgamate to form a new entity to be named “Pieridae Energy Limited.” Pieridae US further asserted that completion of the plan of arrangement was subject to approval by the shareholders of Pétrolia and Pieridae Energy Limited. According to Pieridae US, the plan of arrangement, if completed, would result in a “reverse takeover” of Pétrolia pursuant to which the former shareholders of Pieridae Energy Limited would own, collectively, approximately 85% of the amalgamated corporation.

¹ Pieridae Energy (USA) Ltd., FE Docket No. 14-179-LNG, Notice of Change in Control (May 21, 2017).

In the second Notice, filed on November 1, 2017,² Pieridae US confirmed that the plan of arrangement and amalgamation described in the first Notice became effective on October 24, 2017.³

² Pieridae Energy (USA) Ltd., FE Docket No. 14-179-LNG, Notice of Change in Control (Nov. 1, 2017).

³ Pieridae US is advised that its described change in control may also require the approval of the Committee on Foreign Investment in the United States (CFIUS). DOE expresses no opinion regarding the need for review by CFIUS. Additional information may be obtained at: http://www.treasury.gov/resource-center/international/Pages/Committee-on-Foreign-Investment-in-US.aspx.

Additional details can be found in the Notices, posted on the DOE/FE website at: https://energy.gov/sites/prod/files/2017/06/f35/Change%20in%20Control%20-%20Notification%20-%20FE%20Docket%20No.%2014-179-LNG.pdf (May 21, 2017) and https://energy.gov/sites/prod/files/2017/11/f39/CIC14-179-LNG11_01_17.pdf (November 1, 2017).

DOE/FE Evaluation

DOE/FE will review the two Notices in accordance with its Procedures for Changes in Control Affecting Applications and Authorizations to Import or Export Natural Gas (CIC Revised Procedures).⁴ Consistent with the CIC Revised Procedures, this notice addresses only the Pieridae US proceeding in which a final authorization has been issued to export LNG to non-free trade agreement (non-FTA) countries. The affected proceeding is FE Docket No. 14-179-LNG. If no interested person protests the change in control and DOE takes no action on its own motion, the change in control will be deemed granted 30 days after publication in the Federal Register. If one or more protests are submitted, DOE will review any motions to intervene, protests, and answers, and will issue a determination as to whether the proposed change in control has been demonstrated to render the underlying authorization inconsistent with the public interest.

⁴ 79 FR 65541 (Nov. 5, 2014).

Public Comment Procedures

Interested persons will be provided 15 days from the date of publication of this notice in the Federal Register in order to move to intervene, protest, and answer Pieridae US's Notices. Protests, motions to intervene, notices of intervention, and written comments are invited in response to this notice only as to the change in control described in Pieridae US's Notices.⁵ All protests, comments, motions to intervene, or notices of intervention must meet the requirements specified by DOE's regulations in 10 CFR part 590.

⁵ Intervention, if granted, would constitute intervention only in the change in control portion of this proceeding, as described herein.

Filings may be submitted using one of the following methods: (1) Preferred method: Emailing the filing to fergas@hq.doe.gov, with the individual FE Docket Number(s) in the title line, or Pieridae Change in Control in the title line to include all applicable dockets in this Notice; (2) mailing an original and three paper copies of the filing to the Office of Regulation and International Engagement at the address listed in ADDRESSES; or (3) hand delivering an original and three paper copies of the filing to the Office of Regulation and International Engagement at the address listed in ADDRESSES. All filings must include a reference to the individual FE Docket Number(s) in the title line, or Pieridae Change in Control in the title line to include all applicable dockets in this Notice. Please note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

The Notices and any filed protests, motions to intervene or notice of interventions, and comments are available for inspection and copying in the Office of Regulation and International Engagement docket room, Room 3E-042, 1000 Independence Avenue SW, Washington, DC 20585. The docket room is open between the hours of 8:00 a.m. and 4:30 p.m., Monday through Friday, except Federal holidays.

The Notices and any filed protests, motions to intervene or notice of interventions, and comments will also be available electronically by going to the following DOE/FE web address: http://www.fe.doe.gov/programs/gasregulation/index.html.

Issued in Washington, DC, on February 23, 2018.
Robert J. Smith,
Deputy Assistant Secretary for Oil and Natural Gas (Acting), Office of Fossil Energy.

[FR Doc. 2018-04135 Filed 2-28-18; 8:45 am]

BILLING CODE 6450-01-P